DEPARTMENT OF ENERGY

[Docket Nos. EA-280]

Application To Export Electric Energy; Direct Energy Marketing Inc.

AGENCY: Office of Fossil Energy, DOE.

ACTION: Notice of application.

SUMMARY: Direct Energy Marketing Inc. (DEMI) has applied for authority to export electric energy from the United States to Canada, pursuant to section 202(e) of the Federal Power Act.

DATES: Comments, protests or requests to intervene must be submitted on or before October 2, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On August 13, 2003, DEMI applied to the Office of Fossil Energy of the Department of the Department of Energy (DOE) for authority to export electric energy from the Unites States to Canada. DEMI is a Delaware corporation with its principal place of business in Stamford, Connecticut. DEMI is wholly-owned by Centrica U.S. Holdings Inc., an indirect, wholly-owned subsidiary of Centrica plc. Centrica plc is a major supplier of energy, telecommunications, and financial services in the United Kingdom. DEMI and its affiliates have no franchised service territory in the United States or Canada for the sale of natural gas or electricity, nor do DEMI or its affiliates own or operate any generation or transmission facilities in the United States or Canada. DEMI will operate as a marketer and broker of electric power at wholesale and may arrange services in related areas such as fuel supplies and transmission services.

DEMI proposes to export electric energy to Canada over the international transmission facilities owned by Basin Electric Power Cooperative, Bonneville Power Administration, Citizens Utilities, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Company. DEMI will purchase the energy to be exported from electric utilities and Federal power marketing agencies within the United States as defined in the FPA.

The construction, operation, maintenance, and connection of each of the international transmission facilities to be utilized by DEMI has previously been authorized by a Presidential permit issued pursuant to Executive Order 10485, as amended.

Procedural Matters: Any person desiring to become a party to this proceeding or to be heard by filing comments or protests to this application should file a petition to intervene, comment or protest at the address provided above in accordance with section 385.211 or 385.214 of the FERC's Rules of Practice and Procedures (18 CFR 385.211, 385.214). Fifteen copies of each petition and protest should be filed with the DOE on or before the date listed above.

Comments on the DEMI application to export electric energy to Canada should be clearly marked with Docket EA-280. Additional copies are to be filed directly with Catherine P. McCarthy, LeBeouf, Lamb, Greene & MacRae, L.L.P. 1875 Connecticut Avenue, NW., Suite 1200, Washington, DC 20007 AND Robert Frank, Vice President, Regulatory Affairs, Centrica North America, 8 Greenway Plaza, Suite 1000, Houston, TX 77046.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page select “Electricity regulation,” and then “Pending Proceedings” from the options menus.

Issued in Washington, DC, on August 26, 2003.
Anthony Como,
Deputy Director, Electric Power Regulation, Office of Coal & Power Import/Export, Office of Coal & Power Systems, Office of Fossil Energy.

[FR Doc. 03-22302 Filed 8-29-03; 8:45 am]

BILLING CODE 6450-01-P